DEPARTMENT OF TRANSPORTATION

Pipeline and Hazardous Materials Safety Administration

[Docket No. PHMSA-2016-0136]

Pipeline Safety: Meetings of the Gas Pipeline Advisory Committee and Liquid Pipeline Advisory Committee

AGENCY: Pipeline and Hazardous Materials Safety Administration (PHMSA), DOT.

ACTION: Notice of advisory committee meetings.

SUMMARY: This notice announces a public meeting of the Technical Pipeline Safety Standards Committee, also known as the Gas Pipeline Advisory Committee (GPAC), and a joint meeting of the GPAC and the Technical Hazardous Liquid Pipeline Safety Standards Committee, also known as the Liquid Pipeline Advisory Committee (LPAC). The GPAC will meet to discuss the gathering line component of the proposed rule titled: “Safety of Gas Transmission and Gathering Pipelines.” The GPAC and LPAC will meet jointly to discuss a variety of policy issues and topics relevant to both gas and liquid pipeline safety.

DATES: The GPAC will meet on January 8, 2019, from 8:30 a.m. to 5:00 p.m. ET and on January 9, 2019, from 8:30 a.m. to noon ET. The GPAC and LPAC will meet jointly on January 9, 2019, from 1:00 p.m. to 5:00 p.m. ET, and on January 10, 2019, from 8:30 a.m. to noon ET. Members of the public who wish to attend in person must register on the pipeline advisory committee meeting page no later than December 31, 2018. Individuals requiring accommodations, such as sign language interpretation or other ancillary aids, are asked to notify PHMSA by December 31, 2018. For additional information, see the ADDRESSES section.

ADDRESSES: The meetings will be held at the U.S. Department of Transportation (DOT), 1200 New Jersey Avenue SE, Washington, DC 20590. The meeting agendas and additional information will be available on the meeting page at: https://primis.phmsa.dot.gov/meetings/MtgHome.mtg?mtg=143.

The meetings will be webcast. Information for accessing the webcast will be posted on the meeting page at: https://primis.phmsa.dot.gov/meetings/MtgHome.mtg?mtg=143. Presentations will be available on the meeting page and posted on the E-Gov website, https://www.regulations.gov/, under docket number PHMSA-2016-0136 within 30 days following the meetings.

Public Participation: The meetings will be open to the public. Members of the public may attend the meeting in person or view the meeting via webcast. Please note, that limited space is available for in-person attendance. Members of the public who wish to attend in person must register on the pipeline advisory committee meeting page at: https://primis.phmsa.dot.gov/meetings/MtgHome.mtg?mtg=143. Members of the public participating in-person or via the webcast will have an opportunity to make a statement during the meeting.

Written Comments: Persons who wish to submit written comments on the meeting may submit them to the docket in the following ways:

E-Gov Website: https://www.regulations.gov. This site allows the public to enter comments on any Federal Register notice issued by any agency.

Fax: 1-202-493-2251.

Mail: Docket Management Facility, DOT, 1200 New Jersey Avenue SE, West Building, Room W12-140, Washington, DC 20590-0001.

Hand Delivery: Room W12-140 on the ground level of the DOT West Building, 1200 New Jersey Avenue SE, Washington, DC, between 9:00 a.m. and 5:00 p.m., Monday through Friday, except on Federal holidays.

Instructions: Identify the docket number PHMSA-2016-0136 at the beginning of your comments. Note that all comments received will be posted without change to https://www.regulations.gov, including any personal information provided.

Anyone can search the electronic form of all comments received into any of our dockets by the name of the individual submitting the comment (or signing the comment, if submitted on behalf of an association, business, labor union, etc.).

Docket: For docket access or to read background documents or comments, go to https://www.regulations.gov at any time or to Room W12-140 on the ground level of the DOT West Building, 1200 New Jersey Avenue SE, Washington, DC, between 9:00 a.m. and 5:00 p.m., Monday through Friday, except Federal holidays.

If you wish to receive confirmation of receipt of your written comments, please include a self-addressed, stamped postcard with the following statement: “Comments on PHMSA-2016-0136.” The docket clerk will date stamp the postcard prior to returning it to you via the U.S. mail.

Privacy Act Statement: DOT may solicit comments from the public regarding certain general notices. DOT posts these comments, without edit, including any personal information the commenter provides, to https://www.regulations.gov, as described in the system of records notice (DOT/ALL-14 FDMS), which can be reviewed at https://www.dot.gov/privacy.

Services for Individuals with Disabilities: The public meetings will be fully accessible to people with disabilities. Individuals requiring accommodations, such as sign language interpretation or other ancillary aids, are asked to notify Cameron Satterthwaite at cameron.satterthwaite@dot.gov.

FOR FURTHER INFORMATION CONTACT: For information about the meetings, contact Cameron Satterthwaite, at 202-366-1319, or cameron.satterthwaite@dot.gov.

SUPPLEMENTARY INFORMATION:

I. Background

The GPAC and the LPAC are statutorily mandated advisory committees that advise PHMSA on proposed gas pipeline and hazardous liquid pipeline safety standards, respectively, and their associated risk assessments. The committees are established in accordance with the Federal Advisory Committee Act (5 U.S.C. App. 2, as amended) and 49 U.S.C. 60115. The committees consist of 15 members with membership evenly divided among federal and state governments, the regulated industry, and the public. The committees advise PHMSA on the technical feasibility, reasonableness, cost-effectiveness, and practicability of each proposed pipeline safety standard.

II. Meeting Details and Agenda

The GPAC will be considering the gathering line component of the proposed rule titled: “Safety of Gas Transmission and Gathering Pipelines,” that was published in the Federal Register on April 8, 2016, (81 FR 20722) and the associated regulatory analysis. The rule proposes to repeal the use of API Recommended Practice 80 for gathering lines, apply Type B requirements along with emergency requirements to newly regulated greater than 8-inch Type A gathering lines in Class 1 locations, and extend the reporting requirements to all gathering lines.

The GPAC and LPAC will meet in a joint session to discuss relevant policy issues and topics. The topics will include: Pipeline safety public awareness; regulatory update; Voluntary Information-sharing System Working Group update; research and development projects update; and other relevant topics.

PHMSA will post the agendas on the meeting page at: https://primis.phmsa.dot.gov/meetings/MtgHome.mtg?mtg=143.

Issued in Washington, DC on December 12, 2018, under authority delegated in 49 CFR 1.97.
Alan K. Mayberry,
Associate Administrator for Pipeline Safety.

[FR Doc. 2018-27275 Filed 12-17-18; 8:45 am]

BILLING CODE 4910-60-P